COMMITTEE FOR THE IMPLEMENTATION OF TEXTILE AGREEMENTS

Denial of Short Supply Request under the United States - Caribbean Basin Trade Partnership Act (CBTPA)

July 6, 2001.

AGENCY: Committee for the Implementation of Textile Agreements (CITA).

ACTION: Denial of request alleging that microfilament fabric of continuous polyester and nylon filaments with average size of 0.02 to 0.8 decitex cannot be supplied by the domestic industry in commercial quantities in a timely manner.

FOR FURTHER INFORMATION CONTACT: Janet E. Heinzen or Lori Mennitt, International Trade Specialists, Office of Textiles and Apparel, U.S. Department of Commerce, (202) 482-3400.

SUPPLEMENTARY INFORMATION:

Authority: Section 213(b)(2)(A)(v)(II) of the Caribbean Basin Economic Recovery Act, as added by Section 211(a) of the CBTPA; Section 6 of Executive Order No. 13191 of January 17, 2001.

Summary

On May 8, 2001 the Chairman of CITA received a petition on behalf of Freudenberg Nonwovens Group alleging that microfilament fabric of continuous polyester and nylon filaments with average size of 0.02 to 0.8 decitex, classified in subheading 5603.11.0090, 5603.12.0090, 5603.13.0090 or 5603.14.9090 of the Harmonized Tariff Schedule of the United States (HTSUS), cannot be supplied by the domestic industry in commercial quantities in a timely manner. It requested that apparel articles of such fabric be eligible for preferential treatment under the CBTPA. As a result, CITA published a Federal Register Notice (66 FR 13912) requesting public comments on the petition. These comments were due May 30, 2001. Based on its review of the petition, public comments received, and other information obtained, CITA is denying Freudenberg’s petition.

Background

The CBTPA provides for quota- and duty-free treatment for qualifying textile and apparel products. Such treatment is generally limited to products manufactured from yarns or fabrics formed in the United States or a beneficiary country. The CBTPA also provides for quota- and duty-free treatment for apparel articles that are both cut (or knit-to-shape) and sewn or otherwise assembled in one or more CBTPA beneficiary countries from fabric or yarn that is not formed in the United States or a CBTPA beneficiary country, if it has been determined that such fabric or yarn cannot be supplied by the domestic industry in commercial quantities in a timely manner. In Executive Order No. 13191, the President delegated to CITA the authority to determine whether yarns or fabrics cannot be supplied by the domestic industry in commercial quantities in a timely manner under the CBTPA. On March 6, 2001, CITA published procedures that it will follow in considering requests. (66 FR 13502).

On May 8, 2001 the Chairman of CITA received a petition on behalf of Freudenberg Nonwovens Group alleging that microfilament fabric of continuous polyester and nylon filaments with average size of 0.02 to 0.8 decitex, classified in subheadings 5603.11.0090, 5603.12.0090, 5603.13.0090 or 5603.14.9090 of the Harmonized Tariff Schedule of the United States (HTSUS), cannot be supplied by the domestic industry in commercial quantities in a timely manner. It requested that apparel articles of such fabric be eligible for preferential treatment under the CBTPA.

CITA solicited public comments regarding this request (66 FR 26841, published on May 15, 2001) particularly with respect to whether this fabric can be supplied by the domestic industry in commercial quantities in a timely manner.

On the basis of the petition, public comments received and other information obtained, CITA has determined that microfilament fabrics of continuous polyester and nylon filaments of 0.02 to 0.8 decitex are produced in commercial quantities in the United States and are readily available from U.S. producers. The Freudenberg product has unique features that are not duplicated by domestically produced nonwoven fabrics. However, the product that is the subject of the petition (microfilament fabrics of continous polyester and nylon filaments in sizes 0.02 to 0.8 decitex) encompasses a wide range of nonwoven fabrics, including those produced in the United States.

Based on its review of the petition, public comments received, and other information obtained, CITA is denying Freudenberg’s petition. Freudenberg did not establish that microfilament fabrics of continous polyester and nylon filaments in sizes 0.02 to 0.8 decitex cannot be supplied by the domestic industry in commercial quantities in a timely manner.

D. Michael Hutchinson,
Acting Chairman, Committee for the Implementation of Textile Agreements.

[FR Doc. 01-17437 Filed 7-11-01; 8:45 am]

BILLING CODE 3510-DR-S